DEPARTMENT OF HEALTH AND HUMAN SERVICES

Centers for Disease Control and Prevention

Office for State, Tribal, Local and Territorial Support (OSTLTS), Tribal Advisory Committee (TAC) Meeting and 18th Biannual Tribal Consultation Session

AGENCY: Centers for Disease Control and Prevention (CDC), Department of Health and Human Services (HHS).

ACTION: Notice of meeting.

SUMMARY: The Centers for Disease Control and Prevention (CDC)/Agency for Toxic Substances and Disease Registry (ATSDR), announces the following meeting and Tribal Consultation Session. The meetings are being hosted by CDC/ATSDR in-person only and are open to the public. Attendees must pre-register for the event by March 2, 2018, at the following link: www.cdc.gov/tribal/meetings.html.

DATES:

March 13, 2018

• 8:00 a.m.-5:00 p.m., EDT—Tribal Caucus (Open only to elected tribal leaders and by invitation)

March 14, 2018

• 8:00 a.m.-5:00 p.m., EDT—TAC Meeting (Open to the public)

ADDRESSES: CDC, Global Communications Center Auditorium B3, 1600 Clifton Road NE, Atlanta, Georgia 30329.

FOR FURTHER INFORMATION CONTACT: Carmen Clelland, PharmD, MPA, MPH, Associate Director for Tribal Support, Office for State, Tribal, Local and Territorial Support, CDC, 4770 Buford Highway, Mailstop E-70, Atlanta, GA 30341-3717; (404) 498-2205; cclelland@cdc.gov.

SUPPLEMENTARY INFORMATION: This meeting is being held in accordance with Presidential Executive Order No. 13175, November 6, 2000, and the Presidential Memorandum of November 5, 2009, and September 23, 2004, Consultation and Coordination with Indian Tribal Governments.

Purpose: The purpose of the TAC and consultation meetings is to advance CDC/ATSDR support for and collaboration with American Indian and Alaska Native (AI/AN) tribes and to improve the health of AI/AN tribes by pursuing goals that include assisting in eliminating the health disparities faced by AI/AN tribes; ensuring that access to critical health and human services and public health services is maximized to advance or enhance the social, physical, and economic status of AI/ANs; and promoting health equity for all Indian people and communities. To advance these goals, CDC/ATSDR conducts government-to-government consultations with elected tribal officials or their authorized representatives. Consultation is an enhanced form of communication that emphasizes trust, respect, and shared responsibility. It is an open and free exchange of information and opinion among parties that leads to mutual understanding.

Matters To Be Considered: The agenda will include discussions on tribal priorities for the CDC and ATSDR, public health capacity in Indian Country, AI/AN public health concerns, budget and funding opportunities, and programmatic highlights. Agenda items are subject to change as priorities dictate.

Tribal nations also will have an opportunity to present testimony about tribal health issues. All tribal leaders are encouraged to submit written testimony by 5:00 p.m. (EST) Friday, February 16, 2018, to CDC's Tribal Support Unit via mail to 4770 Buford Highway NE, MS E-70, Atlanta, GA 30341-3717, or email to TribalSupport@cdc.gov. Tribal leaders can find guidance to assist in developing tribal testimony for CDC and ATSDR at www.cdc.gov/tribal/consultation/index.html.

Based on the number of tribal leaders giving testimony and the time available, it may be necessary to limit the time for each.

The Director, Management Analysis and Services Office, has been delegated the authority to sign Federal Register notices pertaining to announcements of meetings and other committee management activities, for both the Centers for Disease Control and Prevention, and the Agency for Toxic Substances and Disease Registry.

Claudette Grant,
Acting Director, Management Analysis and Services Office, Centers for Disease Control and Prevention.

[FR Doc. 2017-28071 Filed 12-27-17; 8:45 am]

BILLING CODE 4160-18-P